DEPARTMENT OF THE INTERIOR

National Park Service

[NPS-WASO-NAGPRA-NPS0037443; PPWOCRADN0-PCU00RP14.R50000]

Notice of Inventory Completion: Illinois State Museum, Springfield, IL

AGENCY: National Park Service, Interior.

ACTION: Notice.

SUMMARY: In accordance with the Native American Graves Protection and Repatriation Act (NAGPRA), the Illinois State Museum has completed an inventory of human remains and associated funerary objects and has determined that there is a cultural affiliation between the human remains and associated funerary objects and Indian Tribes or Native Hawaiian organizations in this notice. The human remains and associated funerary objects were removed from the Dickson Mounds site (11F10/11Fo34), Dickson Camp site (11F10/11Fv35), and a Middle Woodland mound site (11F10/11Fo36), in Fulton County, IL.

DATES: Repatriation of the human remains and associated funerary objects in this notice may occur on or after March 27, 2024.

ADDRESSES: Brooke M. Morgan, Illinois State Museum Research & Collections Center, 1011 East Ash Street, Springfield, IL 62703, telephone (217) 785-8930, email brooke.morgan@illinois.gov.

SUPPLEMENTARY INFORMATION: This notice is published as part of the National Park Service's administrative responsibilities under NAGPRA. The determinations in this notice are the sole responsibility of the Illinois State Museum. The National Park Service is not responsible for the determinations in this notice. Additional information on the determinations in this notice, including the results of consultation, can be found in the inventory or related records held by the Illinois State Museum.

Description

Between 1927 and 1929, Dr. Don F. Dickson exposed and left in situ human remains representing, at minimum, 286 individuals in Mounds 10(I) and 2(E) at the Dickson Mounds site (11F10/11Fo34), Fulton County, IL. These burials date to the Spoon River focus of the Mississippian period (ca. A.D. 1150-1300). Associated funerary objects were often left with their burial of origin, but some were removed and placed with a different burial or displayed in what would become the Museum. The in situ former burial exhibit was known as the “Dickson Excavation” and was on display from 1927 until its closure in 1992. Dickson Mounds State Park was transferred from the Department of Conservation to the Illinois State Museum in 1965, which is when the “Dickson Excavation” was accessioned into the Museum's collection. In 1993, human remains representing, at minimum, one individual were removed from this same location prior to the entombment of the former Dickson Mounds burial exhibit by the Illinois State Museum.

The 773 associated funerary objects are nine antler flakers, two polished antler rings, 274 shell beads, one fluorspar bead, four bone bracelets, one bone weaving tool, two fishhook blanks, three bone fishhooks, one bone awl, three bone pins, seven chipped stone drills, two chert hoes, 49 chert flakes, 20 flake knives, 24 triangular projectile points, 45 chipped stone scrapers, one galena cube, one groundstone celt, one flotation sample, five sandstone abraders, five unmodified deer phalanges, one ceramic trowel, 17 bone needles, 10 shell pendants, one groundstone pipe, 65 ceramic vessels, three lots of ceramic sherds, 45 shell rattles or clackers, three shell hoes, 26 shell spoons, 11 unmodified mussel shells, 123 terrestrial snail shells, two lots of burial fill, and six unmodified stones.

Between 1966 and 1968, human remains representing, at minimum, 830 individuals were removed from the Dickson Mounds site (11F10/11Fo34), Fulton County, IL, when the Illinois State Museum performed salvage excavations prior to construction of the current building, which opened to the public in 1972. These 830 individuals were removed from four precontact cemeteries and 11 mounds constructed during the Late Woodland and Mississippian periods and are comprised of 136 individuals dating to the Late Woodland period (A.D. 700-1100), 440 individuals dating to the Mississippian period (A.D. 1150-1300), and 254 individuals dating to an undetermined precontact archeological period. Precontact period individuals for which time period was unable to be determined were generally removed from indeterminate mounds or from the disturbed upper levels of the mounds that were subject to extensive looting prior to the 1927 Dickson excavation. Archeologists determined these human remains had been historically disassociated from their original positions within the mounds and, as a result, were often commingled and unable to be separated by individual.

The 2,024 associated funerary objects belonging to the Late Woodland period individuals are two antler flakers, one antler hairpin, 1,678 shell beads, 11 lots of faunal remains, one bone pin, one bone fishhook, 18 chert flakes, three flake knives, 18 projectile points, 12 chipped stone scrapers, one sandstone file, one discoidal, one grinding stone, three copper ear spools, seven lots of charcoal, one lot of burned clay, 77 lots of burial fill, 24 flotation samples, three pieces of hematite, two puma canine ear pendants, five shell pendants, 47 ceramic vessels, 47 lots of ceramic sherds, four shell rattles or clackers, 42 shell spoons, 10 unmodified mussel shells, and four unmodified stones.

The 3,646 associated funerary objects belonging to the Mississippian period individuals are seven antler flakers, two antler hair rings, 2,689 shell beads, two beaver incisor chisels, one bird wing fan, two bone bipointed objects, five bone bracelets, one bone comb, two cut bird bones, 15 lots of faunal remains, eight bone scarifier needles, nine bone awls, 13 bone pins, one biface fragment, one chert drill, three chert gravers, 122 chert flakes, 10 flake knives, 57 projectile points, 32 chipped stone scrapers, two sandstone abraders, two groundstone celts, one discoidal, three grinding stones, two groundstone paint palettes, four polishing stones, one hematite plummet, four copper ear spools, one copper gorget, one galena cube bead, one lot of sand tempering material, seven lots of charcoal, two lots of burned clay, 115 lots of burial fill, 25 flotation samples, two lots of preserved woven fabric, three pieces of hematite, 183 quartz pebbles from rattles, one sandstone elbow pipe, two puma canine ear pendants, 16 shell pendants, 58 ceramic vessels, 92 lots of ceramic sherds, four ceramic trowels, 58 shell rattles, one worked marine shell, 49 shell spoons, 22 lots of unmodified mussel shells, and two unmodified stones.

The 681 associated funerary objects belonging to the Precontact period individuals are 571 shell beads, two elk astragali, four lots of faunal remains, one modified bird bone, one turtle carapace plaque, one chert biface, 14 chert flakes, two flake knives, three projectile points, three chert scrapers, one groundstone anvil, one lot of charcoal, 25 lots of burial fill, two flotation samples, 10 shell pendants, three ceramic vessels, 20 lots of ceramic sherds, two mussel shell hoes, 11 shell spoons, and four lots of unmodified mussel shell.

The 2,046 associated funerary objects belonging to multiple individuals or mounds are two worked antler artifacts, 63 shell beads, two beaver incisors, three bone bracelets, one bone hair ring, two bone shuttles, 16 lots of faunal remains, three turtle carapace fragments, 11 bone pins or awls, 18 chert bifaces, 220 chert flakes, three flake knives, 36 projectile points, 47 chert scrapers, five sandstone abraders, three groundstone celts, two galena cubes, 21 lots of burial fill, 28 lots of charcoal, 26 lots of soil, four soil core samples, seven flotation samples, 18 shell pendants, four lots of hematite, 618 lots of ceramic sherds, 31 ceramic vessels, five worked shells, 49 shell spoons, 248 lots of unmodified shell, and 550 lots of unmodified stone.

Prior to 1967, human remains representing, at minimum, 143 individuals were removed from the Dickson Mounds site (11F10/11Fo34), Fulton County, IL, by Dr. Don F. Dickson or his colleagues. These were used primarily for exhibits at the Dickson Mounds Museum between 1945-1978 and were known as the Dickson Osteology Collection. The human remains were purchased by the Illinois State Museum in 1967 as the Dickson Pathology Collection. No associated funerary objects are present.

Prior to 1985, human remains representing, at minimum, 14 individuals were removed from the Dickson Mounds site (11F10/11Fo34), Fulton County, IL, by a private collector. The human remains were donated to the Illinois State Museum in 1985 as part of the Dan Morse Pathology Collection. No associated funerary objects are present.

Prior to 1923, human remains representing, at minimum, one individual were removed from the Dickson Mounds site (11F10/11Fo34), Fulton County, IL, by an unknown person, and recovered by the Riverside County (California) Sheriff's Department in 1985. The remains were transferred to the Illinois State Museum in 1986. No associated funerary objects are present.

Prior to 1954, human remains representing, at minimum, one individual were removed from the Dickson Mounds site (11F10/11Fo34), Fulton County, IL, by Dr. Don F. Dickson and given to a private citizen. The remains were donated to the Illinois State Museum in 1991. No associated funerary objects are present.

Prior to the 1930s, human remains representing, at minimum, one individual were removed from the Dickson Mounds site (11F10/11Fo34), Fulton County, IL, by Dr. Don F. Dickson and given to a private citizen. The remains were donated to the Illinois State Museum in 2004. No associated funerary objects are present.

In 1967, human remains representing, at minimum, one individual were removed from the Dickson Mounds site (11F10/11Fo34), Fulton County, IL, by Marion Dickson and given to a person working on the Dickson Mounds excavation team. The remains were donated to the Illinois State Museum in 2016 by a private citizen. No associated funerary objects are present.

Prior to 1968, human remains representing, at minimum, 10 individuals were removed from the Dickson Mounds site (11F10/11Fo34), Fulton County, IL, by an unknown person and later donated to the Florida State University Department of Anthropology. Circumstances surrounding the recovery and donation are unknown. The remains and associated funerary objects were transferred to the Illinois State Museum in 2022. The 18 associated funerary objects include three mussel shell fragments, one terrestrial gastropod shell, two groundstone tools, four rocks, one projectile point tip fragment, three chert flakes, two pieces of burned botanical material, one bone awl, and one lot of unidentified faunal bone.

Prior to the 1980s, human remains representing, at minimum, 15 individuals were removed from the Dickson Mounds site (11F10/11Fo34), Fulton County, IL, and later donated to the Iowa Office of the State Archaeologist by a private citizen. The remains and associated funerary objects were transferred to the Illinois State Museum in 2022. The 21 associated funerary objects include four mussel shell fragments, one chert flake, and 16 limestone fragments.

In 1931, human remains representing, at minimum, four individuals were removed from the Dickson Mounds site (11F10/11Fo34), Fulton County, IL, by Dr. Don F. Dickson and donated to the Field Museum of Natural History in Chicago. The remains and associated funerary objects were transferred to the Illinois State Museum in 2023. The 22 associated funerary objects include six chert flakes, one groundstone abrader, two mussel shell spoons, one marine shell pendant, one marine shell pendant or bead, two chert knives, four projectile points, one shell tempered ceramic beaker with a handle, one shell tempered undecorated ceramic jar with loop handles, one shell tempered undecorated ceramic water bottle, one shell tempered decorated ceramic jar, and one groundstone celt.

On an unknown date, human remains representing, at minimum, 13 individuals were removed from the Dickson Mounds site (11F10/11Fo34), Fulton County, IL, and donated or otherwise acquired by the Illinois State Museum on an unknown date. No associated funerary objects are present.

Prior to 1945, human remains representing, at minimum, one individual were removed from the Dickson Mounds site (11F10/11Fo34), Fulton County, IL, and given to a private citizen. The remains were donated to the Illinois State Museum in 2002. No associated funerary objects are present.

In 1965, human remains representing, at minimum, two individuals were removed from the Dickson Camp site (11F10/11Fv35), Fulton County, IL, during professional excavation by the Illinois State Museum. The Dickson Camp site dates to the Early Havana Tradition or Early Middle Woodland period (150-50 BC). The 24 associated funerary objects include one unmodified rock, 13 pieces of chert debitage, one piece of sandstone, one lamellar flake blade of Cobden-Dongola chert, three fire-cracked rocks, one piece of ochre, one drumfish tooth, one mussel shell, one cordmarked ceramic vessel, and one mussel shell spoon.

In 1966, human remains representing, at minimum, one individual were removed from the Dickson Camp site (11F10/11Fv35), Fulton County, IL, during salvage excavation by the Illinois State Museum. The 11 associated funerary objects include one projectile point, four chert flakes, and six ceramic sherds.

In 1961, human remains representing, at minimum, one individual were removed from a Middle Woodland (Hopewell) mound (11F10/11Fo36), Fulton County, IL, by the Illinois State Museum. In 1981, associated funerary objects from this mound collected on an unknown date were transferred from the Iowa Office of the State Archaeologist to the Illinois State Museum. The mound dates between 50 BC-A.D. 400. The 81 associated funerary objects include 31 lots of chert flakes, one lot of chert, one lot of clay pieces, one grinding stone, one grooved sandstone abrader, one hammerstone, 12 lots of ceramic sherds, two projectile points, 13 lots of rock, eight lots of soil, six lots of shell, one ash sample, one bark sample, and two sets of bark impressions in sediment matrix.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, geographical, linguistic, and oral tradition information.

Determinations

Pursuant to NAGPRA and its implementing regulations, and after consultation with the appropriate Indian Tribes and Native Hawaiian organizations, the Illinois State Museum has determined that:

• The human remains described in this notice represent the physical remains of 1,325 individuals of Native American ancestry.

• The 9,347 objects described in this notice are reasonably believed to have been placed with or near individual human remains at the time of death or later as part of the death rite or ceremony.

• There is a relationship of shared group identity that can be reasonably traced between the human remains and associated funerary objects described in this notice and the Forest County Potawatomi Community, Wisconsin; Ho-Chunk Nation of Wisconsin; Iowa Tribe of Kansas and Nebraska; Match-e-be-nash-she-wish Band of Pottawatomi Indians of Michigan; Miami Tribe of Oklahoma; Nottawaseppi Huron Band of the Potawatomi, Michigan; Otoe-Missouria Tribe of Indians, Oklahoma; Peoria Tribe of Indians of Oklahoma; Pokagon Band of Potawatomi Indians, Michigan and Indiana; Prairie Band Potawatomi Nation; The Osage Nation; and the Winnebago Tribe of Nebraska.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 27, 2024. If competing requests for repatriation are received, the Illinois State Museum must determine the most appropriate requestor prior to repatriation. Requests for joint repatriation of the human remains and associated funerary objects are considered a single request and not competing requests. The Illinois State Museum is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 16, 2024.
Melanie O'Brien,
Manager, National NAGPRA Program.

[FR Doc. 2024-03807 Filed 2-23-24; 8:45 am]

BILLING CODE 4312-52-P